ENVIRONMENTAL PROTECTION AGENCY

[FRL-6931-4]

Final Reissuance of the National Pollutant Discharge Elimination System (NPDES) Storm Water Multi-Sector General Permit for Industrial Activities; Correction

AGENCY: Environmental Protection Agency (EPA).

ACTION: Notice of final NPDES general permit; correction.

SUMMARY: EPA published a new version of the NPDES Storm Water Multi-Sector General Permit (MSGP) in the Federal Register of October 30, 2000 (65 FR 64746), which replaced the first version issued on September 29, 1995 (60 FR 50804) and amended on February 9, 1996 (61 FR 5248), February 20, 1996 (61 FR 5248), September 24, 1996 (61 FR 50020), August 7, 1998 (63 FR 42534) and September 30, 1998 (63 FR 52430). This general permit authorizes the discharge of storm water from industrial activities consistent with the terms of the permit. The permit contained incorrect dates, typographical errors and omissions from any of the following: The fact sheet portion of the final MSGP from October 30, 2000, the proposed MSGP from March 30, 2000 (65 FR 17010), or the original 1995 version of the MSGP and subsequent amendments.

FOR FURTHER INFORMATION CONTACT: Bryan Rittenhouse, 202.564.0577; rittenhouse.bryan@epa.gov.

SUPPLEMENTARY INFORMATION:

Correction

The following corrections are to be made to the Federal Register of October 30, 2000, (65 FR 64746):

1. On pages 64749-64752 under Table 1.—SECTORS/SUBSECTORS COVERED BY THE FINAL MSGP, the following Standard Industrial Classification (SIC) codes were omitted: 2441 and 2033-2038. Correct the appropriate entries in Table 1. to read:

Table 1.—Sectors/Subsectors Covered by the Final MSGP
Subsector | SIC code | Activity represented
Sector A. Timber Products
| 2441-2449 | Wood containers.
Sector E. Glass, Clay, Cement, Concrete, and Gypsum Product Manufacturing
4 | 3271-3275 | Concrete, gypsum and plaster products.
Sector U. Food and Kindred Products
3 | 2032-2038 | Canned, frozen and preserved fruits, vegetables and food specialties.

2. On page 64749, in column 3, remove the sentence “Certification was not received from Arizona in time for that state to be included in this permit.”

3. On page 64754, column 2, paragraph 1; and on page 64756, column 1, paragraph 2, replace the date “December 29, 2000” with: “January 29, 2001.”

4. On page 64766, first column, under 4. Deadlines, correct the sentences “Today's MSGP requires that permittees previously covered by the 1995 MSGP must update their SWPPPs to comply with any new requirements of today's MSGP by the date they submit their new NOIs. As noted earlier, the new NOIs are due January 29, 2001.” to read:

Today's MSGP requires that permittees previously covered by the 1995 MSGP must update their SWPPPs to comply with any new requirements of today's MSGP within 90 days after the effective date of this permit which is January 29, 2001.

5. On page 64773, in column 3, under “1. Notice of Intent Address”, correct the address given to read:

Storm Water Notice of Intent (4203M)

USEPA

1200 Pennsylvania Avenue, NW

Washington, DC 20460

6. On page 64796, column 1 under Section VI.C Common Pollution Prevention Plan Requirements, Response b, replace the word “fillers” with: filters.

7. On pages 64804-64806, under Table 1-1.—SECTORS OF INDUSTRIAL ACTIVITY COVERED BY THIS PERMIT, the following SIC codes were omitted: 2441, 3281, 2033-2038 and 3821-3873. Correct the appropriate entries in Table 1-1. to read:

Table 1.1.—Sectors of Industrial Activity Covered by this Permit
SIC code or activity represented | Activity represented
Sector A. Timber Products
2441-2449 | Wood containers.
Sector E. Glass, Clay, Cement, Concrete, and Gypsum Product Manufacturing
3271-3275 | Concrete, gypsum and plaster products.
3281 | Cut stone and stone products.
Sector U. Food and Kindred Products
2032-2038 | Canned, frozen and preserved fruits, vegetables and food specialties.
Sector AC. Electronic, Electrical, Photographic and Optical Goods
3812-3873 | Measuring, analyzing and controlling instrument; photographic and optical goods, watches and clocks.

8. On pages 64804-64806 under Table 1-1.—SECTORS OF INDUSTRIAL ACTIVITY COVERED BY THIS PERMIT, Sectors Z and AA were omitted. Add this Sector information to Table 1-1 so it reads:

Table 1.1.—Sectors of Industrial Activity Covered by this Permit
SIC code or activity represented | Activity represented
Sector Z: Leather Tanning and Finishing
3111 | Leather tanning and finishing.
Sector AA: Fabricated Metal Products
3411-3499 | Fabricated metal products, except machinery and transportation equipment.
3911-3915 | Jewelry, silverware, and plated ware.

9. On page 64809, in the footnotes at the bottom of the second column under footnote 2, replace “Part 1.2.2.3” with “Part 1.2.2.1.3,” so footnote 2 reads:

\2\ The provisions specified in Part 1.2.2.1.3 and Part 1.2.4 related to documenting New Source reviews are requirements of Federal programs under the National Environmental Policy Act of 1969 and will not apply to such facilities in the event that authority for the NPDES program has been assumed by the State/Tribe agency and administration of this permit has been transferred to the State/Tribe.

10. On page 64810 under TABLE 2-1.—DEADLINES FOR NOI SUBMITTAL, correct the date under Deadline to read:

Table 2-1.—Deadlines for NOI Submittal
Category | Deadline
1. Existing discharges covered under the 1995 MSGP (see also Part 2.1.2—Interim Coverage) | January 29, 2001.

11. On page 64811, column 1, under part 2.2.4.1, remove the words “or proposed” so that the sentence reads:

Based on the instructions in Addendum A, whether any listed threatened or endangered species, or designated critical habitat, are in proximity to the storm water discharges or storm water discharge-related activities to be covered by this permit;

12. On page 64824, third column, under 6.G.4.4, correct the definition of Reclamation Phase to read:

Reclamation phase—activities undertaken following the cessation of mining intended to return the land to an appropriate post-mining land use in order to meet applicable mined land reclamation requirements.

13. On page 64827, under Table G-3, add “(H)” after Lead in column 4, row 9 (under the headings), and add “Lead (H)” in column 4, row 8 so those rows now read:

Table G-3.—Additional Monitoring Requirements for Discharges From Waste Rock and Overburden Piles From Active Ore Mining or Dressing Facilities
[Supplemental Requirements]
Type of ore mined | Pollutants of Concern: Total Suspended Solids (TSS) | Pollutants of Concern: pH | Pollutants of Concern: Metals, total
Vanadium Ore | X | X | Arsenic, Cadmium (H), Copper (H), Lead (H), Zinc (H).
Copper, Lead, Zinc, Gold, Silver and Molybdenum | X | X | Arsenic, Cadmium (H), Copper (H), Lead (H), Mercury, Zinc (H).

14. On page 64831, first column, under 6.J.4.4, correct the definition of Reclamation Phase to read:

Reclamation phase—activities undertaken following the cessation of mining intended to return the land to an appropriate post-mining land use in order to meet applicable mined land reclamation requirements.

15. On page 64845, under Table S-1.-SECTOR-SPECIFIC NUMERIC LIMITATIONS AND BENCHMARK MONITORING, realign the table elements that were present to read (entire table is reproduced):

BILLING CODE 6560-50-U

BILLING CODE 6560-50-U

16. On page 64873, Addendum D-Notice of Intent Form, under section A. Permit Selection, correct the sentence to read:

Permit number assigned to your facility under the previous permit, or the generic permit number for your location (from part 1.1 of the MSGP):

17. On page 64874, column 1, under “Where to File the NOI Form”, add the following language before the sentence “You must indicate the NPDES storm water general permit under which you are applying for coverage.”:

If your facility was previously covered by the MSGP and you are transferring to the October 29, 2000 version MSGP, you must indicate your original MSGP registration number that was assigned to you by the NOI Center.

For new filers, i.e., those facilities not previously covered by the MSGP, do the following:

18. On page 64874, in column 1, under “Where to File the NOI Form”, correct the phone number, “(202) 260-9541” to read:

(202) 564-9537

19. On page 64875, under “Instructions for Completing the Notice of Termination (NOT) Form”, column 2, replace the address given with:

Storm Water Notice of Termination (4203M)

USEPA

1200 Pennsylvania Avenue, NW

Washington, DC 20460

20. On page 64875, under “Instructions for Completing the Notice of Termination (NOT) Form”, column 2, correct the phone number “(703) 931-3230” to read:

(301) 495-4145

21. On page 64876, in column 2, under “Paperwork Reduction Act Notice”, replace both addresses given with the single address:

Director, Office of Environmental Services

Collection Services Division (2823)

USEPA

1200 Pennsylvania Avenue, NW

Washington, DC 20460

Signed and issued this 15th day of December, 2000.
Robert Goetzl,
Acting Director, Office of Ecosystem Protection, Region 1.

Signed and issued this 21st day of December, 2000.
Kathleen C. Callahan,
Director, Division of Environmental Planning and Protection, Region 2.

Signed and issued this 15th day of December, 2000.
Jon M. Capacasa,
Acting Director, Water Protection Division, Region 3.

Dated: December 20, 2000.
A. Stanley Meiburg,
Deputy Regional Administrator, Region 4.

Signed and issued this 15th day of December, 2000.
Sam Becker,
Acting Director, Water Quality Protection Division, Region 6.

Signed and issued this 18th day of December, 2000.
Stephen S. Tuber,
Acting Assistant Regional Administrator, Office of Partnerships and Regulatory Assistance, Region 8.

Signed and issued this 15th day of December, 2000.
Alexis Strauss,
Director, Water Division, Region 9.

Signed and issued this 15th day of December, 2000.
Randall F. Smith,
Director, Office of Water, Region 10.

[FR Doc. 01-566 Filed 1-8-01; 8:45 am]

BILLING CODE 6560-50-U